DEPARTMENT OF AGRICULTURE

Rural Business-Cooperative Service

Rural Housing Service

Rural Utilities Service

Farm Service Agency

7 CFR Part 1940

RIN 0570-AA30

Methodology and Formulas for Allocation of Loan and Grant Program Funds

Correction

In rule document 03-7237 beginning on page 14527 in the issue of Wednesday, March 26, 2003 make the following correction:

§ 1940.593 [Corrected]

On page 14528, in the second column, in § 1940.593, after paragraph (f), the next paragraph “(a)” should read “(g)”.

[FR Doc. C3-7237 Filed 4-7-03; 8:45 am]

BILLING CODE 1505-01-D

DEPARTMENT OF COMMERCE

Bureau of Industry and Security

Action Affecting Export Privileges; Yaudat Mustafa Talyi, a.k.a. Joseph Talyi, and International Business Services, Ltd. and Top Oil Tools, Ltd.

Correction

In notice document 03-7858 beginning on page 15982 in the issue of Wednesday, April 2, 2003, make the following correction:

On page 15982, in the first column, the subject line is corrected to read as set forth above.

[FR Doc. C3-7858 Filed 4-7-03; 8:45 am]

BILLING CODE 1505-01-D

DEPARTMENT OF HEALTH AND HUMAN SERVICES

Office of the Secretary

45 CFR Part 164

[CMS-0049-F]

RIN 0938-AI57

Health Insurance Reform: Security Standards

Correction

In rule document 03-3877 beginning on page 8334 in the issue of Thursday, February 20, 2003 make the following correction:

§ 164.306 [Corrected]

On page 8377, in the first column, in § 164.306, after paragraph (d)(2), the next paragraph “(1)” should read “(3)”.

[FR Doc. C3-3877 Filed 4-7-03; 8:45 am]

BILLING CODE 1505-01-D

DEPARTMENT OF TRANSPORTATION

Federal Aviation Administration

14 CFR Part 71

[Docket No. FAA-2003-14352; Airspace Docket No. 00-AGL-25]

Modification of Class E Airspace; Hazen, ND

Correction

In rule document 03-7662 beginning on page 15348 in the issue of Monday, March 31, 2003 make the following corrections:

§ 71.1 [Corrected]

1. On page 15349, in the first column, in §71.1, under the heading AGL ND E5 Hazen, ND [Revised], in the 13th line, “counterclosckwise” should read “counterclockwise”.

2. On the same page, in the same column, in the same section, under the same heading, in the 21st line, “long. 102° 24′ 00′′W., ” should read “long. 102° 34′ 00′′ W.,”.

[FR Doc. C3-7662 Filed 4-7-03; 8:45 am]

BILLING CODE 1505-01-D